DEPARTMENT OF ENERGY

Federal Energy Regulatory Commission

[Docket No. EL06-94-000]

The Borough of Chambersburg, PA and the Town of Front Royal, VA Complainants v. PJM Interconnection, L.L.C. Respondent; Notice of Complaint

August 3, 2006.

Take notice that on August 1, 2006, the Borough of Chambersburg, Pennsylvania (Chambersburg) and the Town of Front Royal, Virginia (Front Royal), together “the Municipals”, filed a formal complaint against PJM Interconnection, L.L.C. (PJM) pursuant to sections 206 and 306 of the Federal Power Act, 16 U.S.C. §§ 824e and 825e, and sections 206 and 212 of the Commission's Rules of Practice and Procedures, 18 CFR §§ 385.206 and 385.212, alleging that PJM has unduly discriminated against the Municipals and similarly situated LSEs in the Allegheny Power zone in the allocation of Auction Revenue Rights in Stage 1 of PJM's annual ARR allocation process for the 2006-2007 Planning Year, in contravention of sections 205 and 206 of the Federal Power Act.

The Municipals certify that copies of complaint were served on the contacts for PJM as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 23, 2006.

Magalie R. Salas,
Secretary.

[FR Doc. E6-13066 Filed 8-9-06; 8:45 am]

BILLING CODE 6717-01-P